DEPARTMENT OF EDUCATION

National Mathematics Advisory Panel

AGENCY: National Mathematics Advisory Panel, U.S. Department of Education.

ACTION: Notice of open meeting and public hearing.

SUMMARY: This notice sets forth the schedule and proposed agenda of an upcoming meeting, including a public hearing, with members of the National Mathematics Advisory Panel. The notice also describes the functions of the Panel. Notice of this meeting is required by section 10(a)(2) of the Federal Advisory Committee Act and is intended to notify the public of their opportunity to attend.

DATES: Wednesday, June 28, 2006 and Thursday, June 29, 2006. Time: Meetings on June 28, 2006: 9 a.m. to 10 a.m. and 3 p.m.-4:30 p.m.; open session for public comment on June 29, 2006: 1 p.m. to 4 p.m.

ADDRESSES: All meetings and the open session for public comment will be held at the University of North Carolina, Chapel Hill. However, please note the locations for meetings on each day.

• June 28th Meetings—The Kenan Center, Kenan Drive, Building 498.

• June 29th Open session with public comment—The Carolina Inn, Pittsboro Street.

FOR FURTHER INFORMATION CONTACT: Tyrrell Flawn, Executive Director, National Mathematics Advisory Panel, 400 Maryland Avenue, SW., Washington, DC 20202; telephone: (202) 260-8354.

SUPPLEMENTARY INFORMATION: The Panel was established by Executive Order 13398. The purpose of this Panel is to foster greater knowledge of and improved performance in mathematics among American students, in order to keep America competitive, support American talent and creativity, encourage innovation throughout the American economy, and help State, local, territorial, and tribal governments give the nation's children and youth the education they need to succeed.

The June 28th meeting will begin with a discussion of methodology from 9-10 a.m. followed later in the day from 3-4:30 p.m with a report on subgroup progress in the areas of Conceptual Knowledge and Skills, Learning Processes, Instructional Practices, and Teachers, as set forth in the Executive Order. Individuals interested in attending the meeting must register in advance because of limited space issues. Please contact Jennifer Graban at (202) 260-1491 or by e-mail at Jennifer.Graban@ed.gov.

On June 29th, from 1-4 p.m. the public is invited to comment on elements of the Executive Order and the Panel's work. If you are interested in participating in the open session on June 29th, please contact Jennifer Graban at 202-260-1491 or Jennifer.Graban@ed.gov to reserve time on the agenda. Please include your name, the organization you represent if appropriate, and a brief description of the issue you would like to present. Participants will be allowed five minutes to make their comments. At the meeting, participants are also encouraged to submit three written copies of their comments.

Given the expected number of individuals interested in providing comments at the meeting, reservations for presenting comments should be made as soon as possible. Reservations will be processed on a first-come, first-served basis. Persons who are unable to obtain reservations to speak during the meeting are encouraged to submit written comments. Written comments will be accepted at the meeting site, via e-mail at tyrrell.flawn@ed.gov, or mailed to Tyrrell Flawn, Executive Director, National Math Panel, 400 Maryland Avenue, SW., Washington, DC 20202.

The Panel will submit to the President, through the Secretary, a preliminary report not later than January 31, 2007, and a final report not later than February 28, 2008. Both reports shall, at a minimum, contain recommendations, based on the best available scientific evidence.

The meeting site is accessible to individuals with disabilities. Individuals who will need accommodations in order to attend the meeting such as interpreting services, assistive listening devices, or materials in alternative format, should notify Alyson Knapp at 202-260-0583 or by e-mail at Alyson.Knapp@ed.gov no later than June 19, 2006. We will attempt to meet requests for accommodations after this date but cannot guarantee their availability.

Records are kept of all Panel proceedings and are available for public inspection at the staff office for the Panel, from the hours of 9 a.m. to 5 p.m.

Dated: June 8, 2006.
Margaret Spellings,
Secretary, U.S. Department of Education.

[FR Doc. 06-5384 Filed 6-13-06; 8:45am]

BILLING CODE 4000-01-M